DEPARTMENT OF LABOR

Employment and Training Administration

[TA-W-38, 101 and TA-W-38, 101A]

Bonney Forge Corporation, Allentown, PA and Bonney Forge Corporation, Mt. Union, PA; Notice of Revised Determination on Reopening

On February 5, 2001, the Department, on its own motion, reopened its investigation for the former workers of the subject firm.

The initial investigation resulted in a negative determination issued on December 18, 2000, because the “contributed importantly” test of the Group Eligibility Requirements of the Trade Act was not met for workers at the subject firm. The workers produce steel fittings and o'let valves. The denial notice was published in the Federal Register on January 11, 2001 (66 FR 2450).

Criteria (1) and (2) of the worker group eligibility requirements of Section 222 of the Trade Act of 1974 were met. Employment and sales decreased from FY 1999 to FY 2000.

New information was provided by one of the customers of the subject firm, which warranted further investigation. Review of all survey respondents and clarification of the information received by the Department revealed that a major declining customer of the subject firm increased import purchases of steel pipe fittings while reducing purchases from Bonney Forge.

Conclusion

After careful consideration of the new facts obtained on reopening, it is concluded that increased imports of articles like or directly competitive with steel pipe fittings produced by the subject firm contributed importantly to the decline in sales and to the total or partial separation of workers of the subject firm. In accordance with the provisions of the Trade Act of 1974, I make the following revised determination:

“All workers at Bonney Forge Corporation, Allentown, Pennsylvania (TA-W-38, 101), and Mt. Union, Pennsylvania, (TA-W-38, 101A), who became totally or partially separated from employment on or after August 29, 1999, through two years from the date of certification, are eligible to apply for adjustment assistance under Section 223 of the Trade Act of 1974.”

Signed in Washington, DC this 7th day of June 2001.
Edward A. Tomchick,
Director, Division of Trade Adjustment Assistance.

[FR Doc. 01-16155 Filed 6-26-01; 8:45 am]

BILLING CODE 4510-30-M